FEDERAL COMMUNICATIONS COMMISSION

[CC Docket No. 94-102; DA 01-1628]

Petition for Waiver of E911 Phase II Rules; Comments Invited

AGENCY: Federal Communications Commission.

ACTION: Solicitation of comments.

SUMMARY: The document invites comment on a Petition for Waiver (Petition) of the Commission's E911 Phase II rule filed July 6, 2001, by Cingular Wireless LLC (Cingular). Current Phase II rules require wireless carriers to begin to deploy the capability to identify the precise location of wireless 911 calls beginning on October 1, 2001, provided that certain conditions are met. This capability is called Phase II Automatic Location Identification (ALI). The Phase II rules establish deployment schedules and set accuracy and reliability requirements for both handset-based and network-based ALI technologies.

Cingular requested a waiver of Phase II rules to permit it to deploy a hybrid network and handset-base technology called Enhanced Observed Time Difference of Arrival (E-OTD) throughout its Global System for Mobil Communications (GSM) air interface network and a switch-based technology, similar to Mobile-Assisted Network Location System for its Time Division Multiple Access network.

The full text of the petition is available for public inspection during regular business hours in the FCC Public Reference Room, Room CY-A257, 445 12th Street, SW., Washington, DC 20554. Pursuant to 47 CFR 1.1200(a), this proceeding is designated as a “permit but disclose” proceeding and subject to § 1.1206 of the Commission's Rules. Presentations to or from Commission decision making personnel are permissible, provided that ex parte presentations are disclosed pursuant 47 CFR 1.1206(b).

Interested parties may file comments responding to the Petition on or before July 31, 2001, and reply comments on or before August 10, 2001. Comments may be filed using the Commission's Electronic Comment Filing System (ECFS) or by filing paper copies. Comments filed through ECFS can be sent as an electronic file via the Internet to http://www.fcc.gov/e-file/ecfs.hmtl. Only one copy of an electronic submission must be filed. In completing the transmittal screen, commenters should include their full name, postal service mailing address, and the applicable docket or rulemaking number of this proceeding.

Parties may also submit an electronic comment by Interest e-mail. To get filing instructions for e-mail comments, commenters should send an e-mail to ecfs@fcc.gov, and should include the following words in the body of the message, “get form<your e-mail address>.” A sample form and directions will be sent in reply. Parties who choose to file by paper must file an original and four copies of each filing.

DATES: Comments are due on or before July 31, 2001, and reply comments are due on or before August,10, 2001.

ADDRESSES: All filings must be sent to the Commission's Secretary, Magalie Roman Salas, Office of the Secretary, Federal Communications Commission, 445 12th Street, SW., Washington, DC 20554. A copy should also be sent to Jennifer Salhus, Room 3A-131, Federal Communications Commission, 445 12th Street, SW., Washington, DC 20554.

FOR FURTHER INFORMATION CONTACT: Jennifer Salhus, 202-418-1310.

Federal Communications Commission
Thomas J. Sugrue,
Chief, Wireless Telecommunications Bureau.

[FR Doc. 01-18128 Filed 7-18-01; 8:45 am]

BILLING CODE 6712-01-P